DEPARTMENT OF THE INTERIOR

Fish and Wildlife Service

[FWS-R7-MB-2023-N083; FXMB12610700000-234-FF07M01000; OMB Control Number 1018-0124]

Agency Information Collection Activities; Submission to the Office of Management and Budget; Alaska Subsistence Bird Harvest Survey

AGENCY: Fish and Wildlife Service, Interior.

ACTION: Notice of information collection; request for comment.

SUMMARY: In accordance with the Paperwork Reduction Act of 1995, we, the U.S. Fish and Wildlife Service (Service), are proposing to renew, without change, a currently approved information collection.

DATES: Interested persons are invited to submit comments on or before November 20, 2023.

ADDRESSES: Written comments and recommendations for the proposed information collection should be submitted within 30 days of publication of this notice at https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018- 0124” in the subject line of your comments.

FOR FURTHER INFORMATION CONTACT: To request additional information about this ICR, contact Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995 and 5 CFR 1320.8(d)(1), we provide the general public and other Federal agencies with an opportunity to comment on new, proposed, revised, and continuing collections of information. This helps us assess the impact of our information collection requirements and minimize the public's reporting burden. It also helps the public understand our information collection requirements and provide the requested data in the desired format.

On June 26, 2023, we published in the Federal Register (88 FR 41415) a notice of our intent to request that OMB approve this information collection. In that notice, we solicited comments for 60 days, ending on August 25, 2023. In an effort to increase public awareness of, and participation in, our public commenting processes associated with information collection requests, the Service also published the Federal Register notice on Regulations.gov (Docket No. FWS-R7-MB-2023-0081) to provide the public with an additional method to submit comments (in addition to the typical Info_Coll@fws.gov email and U.S. mail submission methods). We received one comment in response to that notice which did not address the information collection requirements. No response to that comment is required.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your that your entire comment—including your personal identifying information—may be publicly available at any time. While you can ask us in your comment to withhold your personal identifying information from public review, we cannot guarantee that we will be able to do so.

Abstract: The Migratory Bird Treaty Act of 1918 (16 U.S.C. 703-712) and the Fish and Wildlife Act of 1956 (16 U.S.C. 742d) designate the Department of the Interior as the key agency responsible for managing migratory bird populations that frequent the United States and for setting harvest regulations that allow for the conservation of those populations. These responsibilities include gathering data on various aspects of migratory bird harvest. We use harvest data to review regulation proposals and to issue harvest regulations.

The Migratory Bird Treaty Act Protocol Amendment (1995) (Amendment) provides for the customary and traditional use of migratory birds and their eggs for subsistence use by Indigenous inhabitants of Alaska. The Amendment states that its intent is not to cause significant increases in the take of species of migratory birds relative to their continental population sizes. A submittal letter from the Department of State to the White House (May 20, 1996) accompanied the Amendment and specified the need for harvest monitoring. The submittal letter stated that the Service, the Alaska Department of Fish and Game (ADF&G), and Alaska Native Organizations would collect harvest information cooperatively within the subsistence-eligible areas. Harvest data help to ensure that customary and traditional subsistence uses of migratory birds and their eggs by Indigenous inhabitants of Alaska do not significantly increase the take of species of migratory birds relative to their continental population sizes. The Alaska Migratory Bird Co-Management Council (AMBCC) was created in 2000, including the Service, the ADF&G, and the Alaska Native Caucus, to implement provisions related to the amendment of the Migratory Bird treaty Act allowing the spring-summer subsistence harvest of migratory birds in Alaska.

Information collection authorized under Control Number 1018-0124 includes three items:

1. Five-Region Alaska Migratory Bird Co-Management Council Harvest Survey—We monitored subsistence harvest of migratory birds using household surveys in the Yukon-Kuskokwim Delta region during the period 1985-2002, and in the Bristol Bay region during 1995-2002. Since 2004, the AMBCC Harvest Assessment Program has been conducting regular surveys across Alaska to document the subsistence harvest of birds and their eggs. The statewide harvest assessment program helps to describe geographical and seasonal harvest patterns, and to track trends in harvest levels. The program relies on collaboration among the Service, the ADF&G, and diverse Alaska Native Organizations.

We collect harvest data for about 60 bird species/categories and their eggs (ducks, geese, swans, cranes, seabirds, shorebirds, grebes and loons, and grouse and ptarmigan) in the subsistence-eligible areas of Alaska. The survey covers spring, summer, and fall harvest in most regions.

In collaboration with Alaska Native Organizations, we hire local resident surveyors to collect the harvest data. The surveyors list all households in the communities, randomly select households to be surveyed, and interview households that have agreed to participate. To ensure anonymity of harvest information, we identify each household by a numeric code. Since the beginning of the survey in 2004, twice we have re-evaluated and revised survey methods to streamline procedures and minimize respondent burden. The five-region AMBCC harvest survey uses the following currently approved forms for household participation:

• Tracking Sheet and Household Consent (Form 3-2380)—The surveyor visits each household selected to participate in the survey to obtain household consent to participate. The surveyor uses this form to record household consent.

• Harvest Reports (Forms 3-2381-1, 3-2381-2, 3-2381-3, 3-2381-4, and 3-2381-5)—The Harvest Report forms include drawings of bird species most commonly available for harvest in different regions of Alaska, with fields for recording numbers of birds and eggs taken. Each form has up to four sheets, one sheet for each surveyed season. Because bird species available for harvest vary in different regions of Alaska, there are four versions of the harvest report form, each for a different set of species. This helps to prevent users from erroneously recording bird species as harvested in areas where they do not usually occur. The Western and Interior forms (3-2381-1 and 3-2381-3) have three sheets (spring, summer, and fall). We use the Southern Coastal form (3-2381-2) only in the Bristol Bay region. The North Slope form (3-2381-4) has two sheets (spring and summer). Each seasonal sheet has black and white drawings of bird species, next to which are fields to record the number of birds and eggs harvested.

2. Cordova Permit Household Harvest Report (Form 3-2381-5)—Federal regulations allow residents of the community of Cordova (final rule published on April 8, 2014; 79 FR 19454) and the neighboring communities of Tatitlek and Chenega (final rule published April 4, 2017; 82 FR 16298) to harvest in the area defined for the Cordova harvest. Local partners, including the Eyak Tribe and the U.S. Forest Service Cordova Office's Chugach Subsistence Program, worked in close collaboration with the ADF&G Division of Subsistence to develop a household registration and harvest monitoring system. Data collection for the household registration is approved under OMB control number 1018-0178. Data collection for the associated harvest reporting is approved under OMB control number 1018-0124. Harvest monitoring for the Cordova harvest is done using a post-season mail survey (three mailings). The Cordova harvest report form (3-2381-5) has only one sheet (spring).

3. Kodiak Island Roaded Area Permit Hunter Harvest Report (Forms 3-2381-6 and 3-2381-7)—On April 19, 2021, we issued a final rule (RIN 1018-BF08; 86 FR 20311) that allows migratory bird hunting and egg gathering by registration permit in the Kodiak Island Roaded Area in the Kodiak Archipelago Region of Alaska for a 3-year experimental season (2021-2023). We developed regulations for the spring-summer subsistence harvest of migratory birds in the Kodiak Island Roaded Area under a co-management process involving the Service, the ADF&G, and Alaska Native representatives. To participate in the Kodiak roaded area harvest, harvesters must obtain a permit and to complete a harvest report form, even if they did not harvest. Staff from the ADF&G Division of Subsistence worked in close collaboration with the Sun'aq Tribe of Kodiak to develop the permit and harvest reporting system, which started in 2021. The Sun'aq Tribe issues the permits. Information collection for the permit is authorized under OMB Control Number 1018-0178. Information collection for the associated harvest monitoring is authorized under Control Number 1018-0124.

The Sun'aq Tribe requested in-season harvest reporting. Permit holders receive the Kodiak Roaded Area In-Season Harvest Report (Form 3-2381-6) at the time the permit is issued. Harvesters must record their harvest using this form along the season. At the end of the season (early September), all permit holders must submit the completed Kodiak Roaded Area In-Season Harvest Report (Form 3-2381-7) indicating whether they harvested birds and eggs, and if so, the kinds and amounts of birds and eggs harvested. Permit holders submit the completed form by mail to the ADF&G for data analysis (the form includes the return address and is postage-paid). To ensure a more complete harvest reporting, the ADF&G will mail a post-season harvest survey to permit holders who did not submit a completed in-season harvest log. The post-season mail survey includes two reminders. Reported harvests will be extrapolated to represent all permit holders, based on statistical methods. Forms 3-2381-6 and 3-2381-7 are only completed twice per year (spring and summer seasons).

Title of Collection: Alaska Migratory Bird Subsistence Harvest Household Survey.

OMB Control Number: 1018-0124.

Form Numbers: Forms 3-2380, and 3-2381-1 through 3-2381-7.

Type of Review: Extension of a currently approved collection.

Respondents/Affected Public: Households within subsistence-eligible areas of Alaska.

Total Estimated Number of Annual Respondents: 2,271.

Total Estimated Number of Annual Responses: 4,371.

Estimated Completion Time per Response: 5 minutes.

Total Estimated Number of Annual Burden Hours: 364.

Respondent's Obligation: Required to obtain or retain a benefit.

Frequency of Collection: Annually.

Total Estimated Annual Nonhour Burden Cost: None.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-23028 Filed 10-18-23; 8:45 am]

BILLING CODE 4333-15-P